FEDERAL MARITIME COMMISSION

Notice of Agreements Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 012292.

Title: MOL/K-Line Space Charter Agreement.

Parties: Mitsui O.S.K. Lines, Ltd. and Kawasaki Kisen Kaisha, Ltd.

Filing Party: Eric. C. Jeffrey, Esq.; Nixon Peabody LLP; 401 9th Street NW., Suite 900; Washington, DC 20004.

Synopsis: The agreement authorizes the parties to charter space to each other in the trade between the United States, on the one hand, and China and Japan, on the other hand.

Agreement No.: 012293.

Title: Maersk/MSC Vessel Sharing Agreement.

Parties: A.P. Moller-Maersk A/S trading under the name of Maersk Line; and MSC Mediterranean Shipping Company S.A.

Filing Party: Jeffrey Lawrence. Esq. and Wayne Rohde, Esq.; Cozen O'Connor; 1627 I Street NW., Suite 1100, Washington, DC 20006.

Synopsis: The agreement would authorize the parties to share vessels and engage in related cooperative activities in the trades between each of Asia, North Europe and the Mediterranean one the one hand, and the U.S. on the other hand.

By Order of the Federal Maritime Commission.
Dated: August 29, 2014.
Karen V. Gregory,
Secretary.

[FR Doc. 2014-21080 Filed 9-3-14; 8:45 am]

BILLING CODE 6730-01-P